DEPARTMENT OF EDUCATION

[Docket No.: ED-2020-SCC-0098]

Agency Information Collection Activities; Submission to the Office of Management and Budget for Review and Approval; Comment Request; Report of Children Receiving Early Intervention Services in Accordance With Part C; Report of Program Settings in Accordance With Part C; Report on Infants and Toddlers Exiting Part C]

AGENCY: Office of Special Education and Rehabilitation, Department of Education (ED).

ACTION: Notice.

SUMMARY: In accordance with the Paperwork Reduction Act of 1995, ED is proposing an extension without change of a currently approved collection.

DATES: Interested persons are invited to submit comments on or before October 16, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Amy Bae, 202-245-8372.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Report of Children Receiving Early Intervention Services in Accordance With Part C; Report of Program Settings in Accordance with Part C; Report on Infants and Toddlers Exiting Part C.

OMB Control Number: 1820-0557.

Type of Review: Extension without change.

Respondents/Affected Public: State, Local, and Tribal Governments.

Total Estimated Number of Annual Responses: 56.

Total Estimated Number of Annual Burden Hours: 5,311.

Abstract: Section 618 of the Individuals with Disabilities Education Act (IDEA), Public Law 108-446, directs the Secretary of Education to obtain data on the number and percentage of infants and toddlers with disabilities, by race, ethnicity, and gender, who are receiving early intervention services, the number and percentage of infants and toddlers, by race and ethnicity, who are at risk of having substantial developmental delays (as described in Section 632), and who are receiving early intervention services under Part C, and the number and percentage of children with disabilities, by race, ethnicity, and gender, who, from birth through age 2, stopped receiving early intervention services because of program completion or for other reasons. The specific legislative authority for these data collections may be found in Section 618(a)(1)(B), Section 618(a)(1)(C), Section 618(a)(2) and Section 618(a)(3). This package provides instructions and forms necessary for States to report the number of children receiving early intervention services under Part C of IDEA, the settings in which these children are provided services, and the reasons by which these children exit Part C of IDEA. The form satisfies reporting requirements and is used by OSEP to monitor State agencies and for Congressional and public reporting. No adjustments were made to this data collection therefore we anticipate no change in the response burden associated with this data collection. The Department of Education is interested in public comment addressing the COVID crisis. Specially, are there any considerations to these data collections due to the national emergency caused by the novel Coronavirus disease 2019 (COVID-19). Please note that written comments received in response to this notice will be considered public records.

Dated: September 10, 2020.
Kate Mullan,
PRA Coordinator, Strategic Collections and Clearance Governance and Strategy Division, Office of Chief Data Officer, Office of Planning, Evaluation and Policy Development.

[FR Doc. 2020-20348 Filed 9-15-20; 8:45 am]

BILLING CODE 4000-01-P